DEPARTMENT OF COMMERCE

International Trade Administration

A-351-806

Silicon Metal From Brazil: Notice of Intent to Rescind Antidumping Duty Administrative Review

AGENCY: Import Administration, International Trade Administration, Department of Commerce.

SUMMARY: In response to a request from Globe Metallurgical Inc. (Globe), a domestic producer of silicon metal, the Department of Commerce initiated an administrative review of the antidumping duty order on silicon metal from Brazil. The period of review covers July 1, 2005, through June 30, 2006. Because the respondents reported that they had no sales or shipments to the United States during the period of review, we intend to rescind the review of these companies.

EFFECTIVE DATE: December 1, 2006.

FOR FURTHER INFORMATION CONTACT: Janis Kalnins at (202) 482-1392 or Minoo Hatten at (202) 482-1690, AD/CVD Operations, Office 5, Import Administration, International Trade Administration, U.S. Department of Commerce, 14th Street and Constitution Avenue, NW, Washington, DC 20230.

SUPPLEMENTARY INFORMATION:

Background

The Department of Commerce (the Department) published an antidumping duty order on silicon metal from Brazil on July 31, 1991. See Notice of Antidumping Duty Order: Silicon Metal from Brazil 56 FR 36135 (July 31, 1991). On July 3, 2006, the Department published a notice of opportunity to request an administrative review of the antidumping duty order for the period of review covering July 1, 2005, through June 30, 2006. See Notice of Opportunity to Request Administrative Review of Antidumping or Countervailing Duty Order, Finding, or Suspended Investigation, 71 FR 37890 (July 3, 2006). In accordance with 19 CFR 351.213(b)(1), Globe requested an administrative review of this order with respect to the following respondents: Camarago Correa Metais S.A., Companhia Ferroligas de Minas Gerais-minasligas, Italmagnesio Nordeste S.A., and Ligas de Aluminio S.A.

The Department published the initiation of the administrative review of the antidumping duty order on silicon metal from Brazil on August 8, 2006. See Initiation of Antidumping and Countervailing Duty Administrative Reviews and Requests for Revocation in Part, 71 FR 51573 (August 30, 2006).

Scope of the Order

The merchandise covered by this order is silicon metal from Brazil containing at least 96.00 percent but less than 99.99 percent silicon by weight. Also covered by this order is silicon metal from Brazil containing between 89.00 and 96.00 percent silicon by weight but which contains more aluminum than the silicon metal containing at least 96.00 percent but less than 99.99 percent silicon by weight. Silicon metal is currently provided for under subheadings 2804.69.10 and 2804.69.50 of the Harmonized Tariff Schedule (HTS) as a chemical product but is commonly referred to as a metal. Semiconductor grade silicon (silicon metal containing by weight not less than 99.99 percent silicon and provided for in subheading 2804.61.00 of the HTS) is not subject to the order. Although the HTS item numbers are provided for convenience and customs purposes, the written description remains dispositive.

Intent to Rescind Administrative Review

The Department will rescind an administrative review with respect to an exporter or producer if the Department concludes that there were no entries, exports, or sales of the subject merchandise to the United States during the period of review. See 19 CFR 351.213(d)(3). In response to the Department's questionnaire, the respondents notified the Department that they had no entries, exports, or sales of the subject merchandise to the United States during the period of review. Globe submitted no information rebutting the respondent's responses.

The Department conducted a customs data query to ascertain whether there were suspended entries of subject merchandise. See November 22, 2006, Memorandum to File entitled “Silicon Metal from Brazil: Customs Data Query.” Based on the data query, there is no evidence of entries or shipments of the subject merchandise by the respondents during the period of review. Therefore, we intend to rescind the review.

In accordance with the Department's clarification of its assessment policy (see Antidumping and Countervailing Duty Proceedings: Assessment of Antidumping Duties, 68 FR 23954 (May 6, 2003)), in the event any entries were made during the period of review through intermediaries under U.S. Customs and Border Protection (CBP) case numbers for these respondents, the Department will instruct CBP to liquidate such entries at the all-others rate in effect on the date of entry.

Public Comment

An interested party may request a hearing within 15 days of publication of this notice of intent to rescind. See 19 CFR 351.310(c). Any hearing, if requested, will be held 30 days after the date of publication, or the first working day thereafter. Interested parties may submit case briefs no later than 15 days after the date of publication of this notice of intent to rescind. See 19 CFR 351.309(c)(ii). Rebuttal briefs, limited to issues raised in case briefs, may be filed no later than five days after the time limit for filing the case brief. See 19 CFR 351.309(d). Parties who submit arguments are requested to submit with the argument (1) a statement of the issue, (2) a brief summary of the argument, and (3) a table of authorities. Further, parties submitting written comments should provide the Department with an additional copy of the public version of any such comments on diskette. The Department will issue the final notice, which will include the results of its analysis of issues raised in any such comments, or at a hearing, if requested, within 120 days of publication of this notice of intent to rescind.

This notice is issued and published in accordance with sections 751(a)(1) and 777(i)(1) of the Tariff Act of 1930, as amended, and 19 CFR 351.213(d).

Dated: November 27, 2006.
Stephen J. Claeys,
Deputy Assistant Secretary for Import Administration.

[FR Doc. E6-20368 Filed 11-30-06; 8:45 am]

BILLING CODE 3510-DS-S